DEPARTMENT OF COMMERCE

International Trade Administration

[A-570-806]

Silicon Metal From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on silicon metal from the People's Republic of China (China) would likely lead to a continuation or recurrence of dumping and material injury to an industry in the United States, Commerce is publishing a notice of continuation of the AD duty order.

DATES: Applicable June 4, 2018.

FOR FURTHER INFORMATION CONTACT: Karine Gziryan or Howard Smith, AD/CVD Operations, Office IV, Enforcement and Compliance, International Trade Administration, U.S. Department of Commerce, 1401 Constitution Avenue NW, Washington, DC 20230; telephone: (202) 482-4081 or (202) 482-5193, respectively.

SUPPLEMENTARY INFORMATION:

Background

On June 10, 1991, Commerce published in the Federal Register the AD order on silicon metal from China.¹ On March 3, 2017, Commerce published the notice of initiation of the fourth sunset review of the Order, pursuant to section 751(c) of the Tariff Act of 1930, as amended (the Act).² Commerce conducted this sunset review on an expedited basis, pursuant to section 751(c)(3)(B) of the Act and 19 CFR 351.218(e)(1)(ii)(C)(2) because it received a complete timely, and adequate response from a domestic interested party ³ but no substantive responses from respondent interested parties. As a result of its review, Commerce determined pursuant to sections 751(c)(1) and 752(c) of the Act, that revocation of the Order would likely lead to a continuation or recurrence of dumping. Commerce also notified the ITC of the magnitude of the dumping margins likely to prevail should the Order be revoked.⁴ On May 21, 2018, the ITC published its determination, pursuant to section 751(c) of the Act, that revocation of the AD duty order on silicon metal from China would be likely to lead to continuation or recurrence of material injury to an industry in the United States within a reasonably foreseeable time.⁵

¹ See Antidumping Duty Order: Silicon Metal from the People's Republic of China, 56 FR 26649 (June 10, 1991) (Order).

² See Initiation of Five-Year (“Sunset”) Review, 82 FR 12438 (March 3, 2017).

³ See Letter from Domestic Interested Party (Globe) re Silicon Metal from the People's Republic of China; Fourth Sunset Review; Notice of Intent to Participate dated March 3, 2017.

⁴ See Silicon Metal from the People's Republic of China: Final Results of the Expedited Fourth Sunset Review of the Antidumping Duty Order, 82 FR 30841 (July 3, 2017) (Final Results).

⁵ See Silicon Metal from China: Fourth Review, Investigation No. 731-TA-472, 83 FR 23484-01 (May 21, 2018).

Scope of the Order

The merchandise covered by the order is silicon metal containing at least 96.00 percent, but less than 99.99 percent of silicon by weight. For a complete description of the scope of the Order, see the Issues and Decision memorandum explaining Commerce's Final Results.

Continuation of the Order

As a result of the determinations by Commerce and the ITC that revocation of the Order would likely lead to a continuation or recurrence of dumping and material injury to an industry in the United States, pursuant to section 751(d)(2) of the Act and 19 CFR 351.218(a), Commerce hereby orders the continuation of the AD order on silicon metal from China. U.S. Customs and Border Protection will continue to collect AD cash deposits at the rates in effect at the time of entry for all imports of subject merchandise. The effective date of the continuation of the Order will be the date of publication in the Federal Register of this notice of continuation. Pursuant to section 751(c)(2) of the Act and 19 CFR 351.218(c)(2), Commerce intends to initiate the next sunset review of the Order not later than 30 days prior to the fifth anniversary of the effective date of continuation. This five-year sunset review and this notice are in accordance with section 751(c) and 751(d)(2) of the Act and published pursuant to section 777(i)(1) of the Act and 19 CFR 351.218(f)(4).

Dated: May 25, 2018.
Gary Taverman,
Deputy Assistant Secretary for Antidumping and Countervailing Duty Operations, performing the non-exclusive functions and duties of the Assistant Secretary for Enforcement and Compliance.

[FR Doc. 2018-11904 Filed 6-1-18; 8:45 am]

BILLING CODE 3510-DS-P